SECURITIES AND EXCHANGE COMMISSION

Sunshine Act Meeting

Notice is hereby given, pursuant to the provisions of the Government in the Sunshine Act, Public Law 94-409, that the Securities and Exchange Commission will hold its annual forum on small business capital formation on November 19, 2009 beginning at 9 a.m.

The forum will include roundtables focusing on the state of small business capital formation and the SEC's accredited investor definition for private and limited offerings.

The roundtables will take place in the Auditorium of the Commission's headquarters at 100 F Street, NE., Washington, DC and will be open to the public with seating on a first-come, first-served basis. Doors will open at 8:30 a.m. Visitors will be subject to security checks.

For further information, please contact Anthony Barone at 202-551-3261.

Dated: November 3, 2009.
Elizabeth M. Murphy,
Secretary.

[FR Doc. E9-26894 Filed 11-4-09; 11:15 am]

BILLING CODE 8011-01-P